DEPARTMENT OF ENERGY

Federal Energy Regulatory Commission

[Docket No. RP02-100-000]

PG&E Gas Transmission, Northwest Corporation; Notice of Compliance Filing

December 14, 2001.

Take notice that on November 30, 2001, PG&E Gas Transmission, Northwest Corporation (GTN) tendered for filing workpapers supporting the restatement of its fuel and line loss surcharge.

GTN asserts that the purpose of this filing is to comply with Paragraph 37 of the General Terms and Conditions of its FERC Gas Tariff, “Adjustment for Fuel, Line Loss and Other Unaccounted For Gas Percentages.” These workpapers reflect that GTN's fuel and line loss surcharge percentage will remain at 0.0000% per Dth per pipeline-mile for the six-month period beginning January 1, 2002. Also included, as required by Paragraph 37, are workpapers showing the derivation of the current fuel and line loss percentage in effect for each month of the six-month period from May, 2001 through October, 2001.

GTN further states that a copy of this filing has been served on GTN's jurisdictional customers and interested state regulatory agencies.

Any person desiring to be heard or to protest said filing should file a motion to intervene or a protest with the Federal Energy Regulatory Commission, 888 First Street, N.E., Washington, DC 20426, in accordance with Sections 385.214 or 385.211 of the Commission's Rules and Regulations. All such motions or protests must be filed on or before December 19, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31318 Filed 12-19-01; 8:45 am]

BILLING CODE 6717-01-P